DEPARTMENT OF COMMERCE

International Trade Administration

[C-580-837]

Notice of Final Results of Countervailing Duty Administrative Review: Certain Cut-to-Length Carbon-Quality Steel Plate from the Republic of Korea

AGENCY: Import Administration, International Trade Administration, Department of Commerce.

SUMMARY: On March 7, 2006, the Department of Commerce (“the Department”) published the preliminary results of the countervailing duty (“CVD”) administrative review of certain cut-to-length carbon-quality steel plate (“CTL Plate”) from the Republic of Korea (“Korea”). The review covers Dongkuk Steel Mill Co., Ltd. (“DSM”). The period of review (“POR”) is January 1, 2004, through December 31, 2004. The Department received no comments concerning our preliminary results; therefore, our final results remain unchanged from our preliminary results. The final results are listed in the section “Final Results of Review” below.

EFFECTIVE DATE: July 10, 2006.

FOR FURTHER INFORMATION CONTACT: Tipten Troidl, AD/CVD Operations, Office 3, Import Administration, International Trade Administration, U.S. Department of Commerce, 14th Street and Constitution Ave., NW., Washington, DC 20230; telephone: (202) 482-1767.

SUPPLEMENTARY INFORMATION:

Background

On March 7, 2006, the Department published the preliminary results of the administrative review of the CVD order on CTL Plate from Korea. See Notice of Preliminary Results of Countervailing Duty Administrative Review: Certain Cut-to-Length Carbon-Quality Steel Plate from the Republic of Korea, 71 FR 11397 (March 7, 2006) (“Preliminary Results”). We invited interested parties to comment on our Preliminary Results. We received no comments.

Scope of Review

The products covered by the CVD order are certain hot-rolled carbon-quality steel: (1) Universal mill plates (i.e., flat-rolled products rolled on four faces or in a closed box pass, of a width exceeding 150 mm but not exceeding 1250 mm, and of a nominal or actual thickness of not less than 4 mm, which are cut-to-length (not in coils) and without patterns in relief), of iron or non-alloy-quality steel; and (2) flat-rolled products, hot-rolled, of a nominal or actual thickness of 4.75 mm or more and of a width which exceeds 150 mm and measures at least twice the thickness, and which are cut-to-length (not in coils). Steel products to be included in the scope of the order are of rectangular, square, circular or other shape and of rectangular or non-rectangular cross-section where such non-rectangular cross-section is achieved subsequent to the rolling process (i.e., products which have been “worked after rolling”)--for example, products which have been beveled or rounded at the edges. Steel products that meet the noted physical characteristics that are painted, varnished or coated with plastic or other non-metallic substances are included within this scope. Also, specifically included in the scope of the order are high strength, low alloy (“HSLA”) steels. HSLA steels are recognized as steels with micro-alloying levels of elements such as chromium, copper, niobium, titanium, vanadium, and molybdenum. Steel products to be included in this scope, regardless of Harmonized Tariff Schedule of the United States (“HTSUS”) definitions, are products in which: (1) Iron predominates, by weight, over each of the other contained elements; (2) the carbon content is two percent or less, by weight; and (3) none of the elements listed below is equal to or exceeds the quantity, by weight, respectively indicated: 1.80 percent of manganese, or 1.50 percent of silicon, or 1.00 percent of copper, or 0.50 percent of aluminum, or 1.25 percent of chromium, or 0.30 percent of cobalt, or 0.40 percent of lead, or 1.25 percent of nickel, or 0.30 percent of tungsten, or 0.10 percent of molybdenum, or 0.10 percent of niobium, or 0.41 percent of titanium, or 0.15 percent of vanadium, or 0.15 percent zirconium. All products that meet the written physical description, and in which the chemistry quantities do not equal or exceed any one of the levels listed above, are within the scope of this order unless otherwise specifically excluded. The following products are specifically excluded from the order: (1) Products clad, plated, or coated with metal, whether or not painted, varnished or coated with plastic or other non-metallic substances; (2) SAE grades (formerly AISI grades) of series 2300 and above; (3) products made to ASTM A710 and A736 or their proprietary equivalents; (4) abrasion-resistant steels (i.e., USS AR 400, USS AR 500); (5) products made to ASTM A202, A225, A514 grade S, A517 grade S, or their proprietary equivalents; (6) ball bearing steels; (7) tool steels; and (8) silicon manganese steel or silicon electric steel.

The merchandise subject to the order is currently classifiable under the HTSUS under subheadings: 7208.40.3030, 7208.40.3060, 7208.51.0030, 7208.51.0045, 7208.51.0060, 7208.52.0000, 7208.53.0000, 7208.90.0000, 7210.70.3000, 7210.90.9000, 7211.13.0000, 7211.14.0030, 7211.14.0045, 7211.90.0000, 7212.40.1000, 7212.40.5000, 7212.50.0000, 7225.40.3050, 7225.40.7000, 7225.50.6000, 7225.99.0090, 7226.91.5000, 7226.91.7000, 7226.91.8000, 7226.99.0000.

Although the HTSUS subheadings are provided for convenience and customs purposes, the written description of the merchandise covered by the order is dispositive.

Final Results of Review

As noted above, the Department received no comments concerning the preliminary results; consistent with the preliminary results, we determine that the total net countervailing subsidy rate for DSM is 0.05 percent ad valorem, a de minimis rate, for the period January 1, 2004, through December 31, 2004. As there have been no changes or comments from the preliminary results we are not attaching a Decision Memorandum to this Federal Register notice. For further details of the programs included in this proceeding, see the Preliminary Results.

Manufacturer/exporter | Margin (percent)
Dongkuk Steel Mill Co., Ltd. (DSM) | 0.05 (de minimis)

Assessment

The Department will issue appropriate assessment instructions directly to U.S. Customs and Border Protection (“CBP”) within 15 days of publication of these final results of review. We intend to issue liquidation instructions to CBP for entries or exports made during the period January 1, 2004, through December 31, 2004, without regard to duties.

Cash Deposits Requirements

We will instruct CBP to collect cash deposit of 0.00 percent for DSM and to continue to collect cash deposits for non-reviewed companies at the most recent company-specific rate applicable to the company. Accordingly, the cash deposit rate that will be applied to non-reviewed companies covered by this order will be the rate for that company established in the investigation or the most recently completed administrative review. See Notice of Amended Final Determination: Certain Cut-to-Length Carbon-Quality Steel Plate from India and the Republic of Korea; and Notice of Countervailing Duty Orders: Certain Cut-to-Length Carbon-Quality Steel Plate from France, India, Indonesia, Italy, and the Republic of Korea, 65 FR 6587 (February 10, 2000). The “All Others” rate of 3.26 percent shall apply to all companies not previously reviewed until a review of a company assigned this rate is requested.

This notice also is the only reminder to parties subject to administrative protective order (“APO”) of their responsibility concerning the return or destruction of proprietary information disclosed under APO in accordance with 19 CFR 351.305. Timely written notification of the return/destruction of APO materials or conversion to judicial protective order is hereby requested. Failure to comply with the regulations and the terms of an APO is a sanctionable violation. We are issuing and publishing these results and notice in accordance with sections 751(a)(1) and 777(i)(1) of the Act.

Dated: June 30, 2006.
David M. Spooner,
Assistant Secretary for Import Administration.

[FR Doc. E6-10731 Filed 7-7-06; 8:45 am]

Billing Code: 3510-DS-S